Proclamation 10290 of October 15, 2021

National Character Counts Week, 2021

By the President of the United States of America

A Proclamation

Every day, each of us makes countless decisions that ultimately define our character and who we are as people. Life's daily choices may not always seem consequential, but they have tremendous potential to transform our communities, our country, and our world. Our words have the power to lift up or tear down, to inspire or discourage, and to comfort or torment. Our actions have the power to create or destroy, to heal or to hurt, and to unify or divide.

As Americans, our individual character—the sum of qualities that defines who we are and how we treat one another—shapes the character of our Nation and shapes the world we leave for our children. Our character is defined and revealed by the choices we make over a lifetime and, in the case of our Nation, from generation to generation. As we celebrate National Character Counts Week, I encourage all Americans to examine and embody the highest ideals that define our Nation and that have helped us overcome our greatest challenges.

I have long said that the story of America is the story of ordinary people doing extraordinary things. It is a story of strength and resilience, courage and character. Today, our Nation faces tests like very few before—from fighting the COVID-19 pandemic and addressing longstanding inequities and injustices, to confronting the ravages of climate change, and responding to threats to our very democracy. Despite these trials, it is the character of the American people—courageous, selfless, and community-minded—that is pulling us through. As we see in our first responders on the frontlines of the pandemic helping their communities with selfless compassion, in our service members bravely serving around the globe, in our scientists pursuing knowledge with integrity, in our firefighters combating wildfires, and in our teachers and parents and students adapting to new learning environments with patience and determination—Americans are meeting the moment by working to see that we overcome our challenges together.

Character is also revealed by our choices. We must choose to uphold the dignity of all Americans by protecting their health and security, investing in their education and development, helping the needy and the vulnerable, and erasing the stain of hate and discrimination from our society. On this and so many other tasks, I firmly believe that the American people are up to the challenge.

NOW, THEREFORE, I, JOSEPH R. BIDEN JR., President of the United States of America, by virtue of the authority vested in me by the Constitution and the laws of the United States, do hereby proclaim October 17 through October 23, 2021, as National Character Counts Week. I encourage all Americans to set aside differences and join in efforts of service that contribute to their communities.

IN WITNESS WHEREOF, I have hereunto set my hand this fifteenth day of October, in the year of our Lord two thousand twenty-one, and of the Independence of the United States of America the two hundred and forty-sixth.

[FR Doc. 2021-23051

Filed 10-19-21; 11:15 am]

Billing code 3395-F2-P